DEPARTMENT OF AGRICULTURE

Submission for OMB Review; Comment Request

June 24, 2019.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by July 29, 2019 will be considered. Written comments should be addressed to: Desk Officer for Agriculture, Office of Information and Regulatory Affairs, Office of Management and Budget (OMB), New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Fire and Aviation Management Medical Qualifications Program.

OMB Control Number: 0596-0164.

Summary of Collection: The Protection Act of 1922 (16 U.S.C. 594) authorizes the Forest Service (FS) to fight fires on National Forest System lands. Title 5 CFR, Part 339, authorizes the FS to establish medical qualification standards and require pre-appointment medical examinations, regular recurring periodic examinations after appointment, and whenever there is a direct question about a firefighter's continued ability to meet the medical qualification standards. The information collected pertains to an individual's health status and health history. The collection of this information and use thereof are consistent with the provisions of 5 U.S.C. 552a (Privacy Act of 1974).

Need and Use of the Information: Individuals seeking recertification or employment as a new firefighter with the FS or Department of Interior (DOI) must complete the Health Screening Questionnaire (HSQ). FS and DOI will collect information from potential applicants using forms FS-5100-30, Work Capacity Test Informed Consent and FS-5100-31, Health Screening Questionnaire. Applicants will also need to complete the Wildland Firefighter Medical Qualifications Program Medical Exam and a Self-Certification Statement and Blood Pressure Check. Wildland firefighters perform long hours of arduous labor in adverse conditions. The information collected is used to determine whether an individual being considered for a position can carry out those duties in a manner that will not place the candidate or coworkers unduly at risk due to inadequate physical fitness and health. If the information is not collected, the Government's liability risk is high, special needs of an individual may not be known, or the screening of an applicant's physical suitability would be greatly inhibited.

Description of Respondents: Individuals or households.

Number of Respondents: 34,637.

Frequency of Responses: Reporting: Annually.

Total Burden Hours: 10,488.

Kimble Brown,
Departmental Information Collection Clearance Officer.

[FR Doc. 2019-13732 Filed 6-26-19; 8:45 am]

BILLING CODE 3411-15-P